FEDERAL ELECTION COMMISSION

Sunshine Act Meeting Notice

Previously Announced Date and Time: Tuesday, May 6, 2003, meeting closed to the public. This meeting was rescheduled for Monday, May 5, 2003.

Date and time: Tuesday, May 13, 2003 at 10 a.m.

Place: 999 E Street, N.W., Washington, DC

Status: This meeting will be closed to the public.

Items To Be Discussed: Compliance matters pursuant to 2 U.S.C. 437g. Audits conducted pursuant to 2 U.S.C. 437g, 438(b), and Title 26, U.S.C. Matters concerning participation in civil actions or proceedings or arbitration. Internal Personnel rules and procedures or matters affecting a particular employee.

Person to Contact for Information: Mr. Ron Harris, Press Officer, Telephone: (202) 694-1220.

Mary W. Dove,
Secretary of the Commission.

[FR Doc. 03-11675 Filed 5-6-03; 3:12 pm]

BILLING CODE 6715-01-M